DEPARTMENT OF LABOR

Office of Federal Contract Compliance Programs

Proposed Renewal of the Approval of Information Collection Requirements; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents can be properly assessed. Currently, the Office of Federal Contract Compliance Programs (OFCCP) is soliciting comments concerning its proposal to renew the Office of Management and Budget (OMB) approval of the following information collections: “Vietnam Era Veterans' Readjustment Assistance Act, as Amended” (OMB Control No. 1250-0004) and “Section 503 of the Rehabilitation Act of 1973, as Amended” (OMB Control No. 1250-0005). The current OMB approval for these information collections expires on January 31, 2020. A copy of the proposed information collection request can be obtained by contacting the office listed below in the FOR FURTHER INFORMATION CONTACT section of this Notice or by accessing it at www.regulations.gov.

DATES: Written comments must be submitted to the office listed in the addresses section below on or before December 2, 2019.

ADDRESSES: You may submit comments, identified by Control Number 1250-0004 and/or 1250-0005, by one of the following methods:

Electronic Comments: Through the federal eRulemaking Portal at www.regulations.gov. Follow the instructions for submitting comments.

Mail, Hand Delivery, Courier: Address comments to Harvey D. Fort, Deputy Director, Division of Policy and Program Development, Office of Federal Contract Compliance Programs, 200 Constitution Avenue NW, Room C3325, Washington, DC 20210.

Instructions: Please submit one copy of your comments by only one method. All submissions received must include the agency name and OMB Control Number identified above for this information collection. Commenters are strongly encouraged to submit their comments electronically via the www.regulations.gov website or to mail their comments early to ensure that they are timely received. Comments, including any personal information provided, become a matter of public record and will be posted to the www.regulations.gov website. They will also be summarized and/or included in the request for OMB approval of the information collection request.

FOR FURTHER INFORMATION CONTACT: Harvey D. Fort, Deputy Director, Division of Policy and Program Development, Office of Federal Contract Compliance Programs, 200 Constitution Avenue NW, Room C-3325, Washington, DC 20210. Telephone: (202) 693-0103 (voice) or (877) 889-5627 (TTY). Copies of this notice may be obtained in alternative formats (e.g. large print, braille, audio recording), upon request, by calling the numbers listed above.

SUPPLEMENTARY INFORMATION:

I. Background: OFCCP administers and enforces Executive Order 11246, section 503 of the Rehabilitation Act (section 503), and the Vietnam Era Veterans' Readjustment Assistance Act (VEVRAA), and their implementing regulations. Collectively, these laws require federal contractors to take affirmative action and not discriminate on the basis of race, color, religion, sex, sexual orientation, gender identity, national origin, disability, or status as a protected veteran. Additionally, Executive Order 11246 prohibits a contractor from discharging or otherwise discriminating against applicants or employees who inquire about, discuss or disclose their compensation or that of others, subject to certain limitations.

This information collection request covers the recordkeeping and third party disclosure requirements for Section 503 and VEVRAA. OFCCP is not proposing to collect new information with this renewal.

Section 503 prohibits employment discrimination against applicants and employees because of physical or mental disability and requires affirmative action to ensure that persons are treated without regard to disability. Section 503 applies to Federal contractors and subcontractors with contracts in excess of $15,000.¹

¹ Effective October 1, 2010, the coverage threshold under Section 503 increased from $10,000 to $15,000, in accordance with the inflationary adjustment requirements in 41 U.S.C. 1908.

VEVRAA prohibits employment discrimination against protected veterans and requires affirmative action to ensure that persons are treated without regard to their status as a protected veteran. VEVRAA applies to Federal contractors and subcontractors with contracts of $150,000 or more.²

² Effective October 1, 2015, the coverage threshold under VEVRAA increased from $100,000 to $150,000, in accordance with the inflationary adjustment requirements in 41 U.S.C. 1908.

II. Review Focus: DOL is particularly interested in comments which:

• Evaluate the proposed changes to the Voluntary Self-Identification of Disability, including specific suggestions for updating the form and for matching applicants with forms for affirmative action purposes using a method other than name;

• evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions: DOL seeks the approval of the extension of this information in order to carry out its responsibility to enforce the affirmative action and nondiscrimination provisions of Section 503 and VEVRAA, which it administers.

Type of Review: Renewal.

Agency: Office of Federal Contract Compliance Programs.

Title: 38 U.S.C. 4212, Vietnam Era Veterans' Readjustment Assistance Act, as Amended.

OMB Number: 1250-0004.

Agency Number: None.

Affected Public: Business or other for profit; individuals.

Total Respondents: 117,819 Contractors. 42,414,840 Applicants.

Total Annual Responses: 117,819 Contractors. 42,414,840 Applicants.

Average Time per Response: 16.8 hours per contractor. .08 hours (5 minutes) per applicant.

Estimated Total Burden Hours: 5,377,349.

Frequency: On occasion.

Total Burden Cost (capital/startup): $0.

Total Burden Cost (operating/maintenance): $763,467.

Type of Review: Renewal.

Agency: Office of Federal Contract Compliance Programs.

Title: 29 U.S.C 793, Section 503 of the Rehabilitation Act of 1973, as Amended.

OMB Number: 1250-0005.

Agency Number: None.

Affected Public: Business or other for profit; individuals.

Total Respondents: 117,819 Contractors. 42,414,840 Applicants. 31,927,590 Employees.

Total Annual Responses: 117,819 Contractors. 42,414,840 Applicants. 6,385,518 Employees.

Average Time per Response: 3.7 hours per contractor. .08 hours (5 minutes) per applicant. .08 hours (5 minutes) per employee.

Estimated Total Burden Hours: 4,426,841

Frequency: On occasion.

Total Burden Cost (capital/startup): $0.

Total Burden Cost (operating/maintenance): $763,467.

Comments submitted in response to this notice will be summarized and/or included in the request for OMB approval of the information collection request; they will also become a matter of public record.

Dated: September 27, 2019.
Harvey D. Fort,
Deputy Director, Division of Policy and Program Development, Office of Federal Contract Compliance Programs.

[FR Doc. 2019-21488 Filed 10-2-19; 8:45 am]

BILLING CODE 4510-CM-P